DEPARTMENT OF DEFENSE

Department of the Army

Board of Visitors, United States Military Academy (USMA)

AGENCY: Department of the Army, DoD.

ACTION: Notice of open meeting.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting will take place:

1. Name of Committee: United States Military Academy Board of Visitors.

2. Date: Wednesday, May 14, 2008.

3. Time: 1 p.m.-4 p.m. Members of the public wishing to attend the meeting will need to show photo identification in order to gain access to the meeting location. All participants are subject to security screening.

4. Location: Senate Russell Office Building, Washington, DC 20515 (exact room location will be published on the USMA Board of Visitors Web site at http://www.usma.edu/bov.asp).

5. Purpose of the Meeting: This is the 2008 Spring Meeting of the USMA Board of Visitors (BoV). Members of the Board will be provided updates on Academy issues.

6. Agenda: The Academy leadership will provide the Board updates on the following: Admissions, The Center of Professional Military Ethics, Capstone Course, FY08 & FY09 Budget and Manpower, Business Transformation, USMA Master Plan, Uniform Code of Military Justice (UCMJ), Accreditation, Residential Communities Initiative (RCI), and Diversity.

7. Public's Accessibility to the Meeting: Pursuant to 5 U.S.C. 552b and 41 CFR 102-3.140 through 102-3.165, and the availability of space, this meeting is open to the public. Seating is on a first-come basis.

8. Committee's Designated Federal Officer or Point of Contact: Ms. Cynthia Kramer, (845) 938-5078, Cynthia.kramer@us.army.mil.

SUPPLEMENTARY INFORMATION: Any member of the public is permitted to file a written statement with the USMA Board of Visitors. Written statements should be sent to the Designated Federal Officer (DFO) at: United States Military Academy, Office of the Secretary of the General Staff (MASG), 646 Swift Road, West Point, NY 10996-1905 or faxed to the Designated Federal Officer (DFO) at (845) 938-3214. Written statements must be received no later than five working days prior to the next meeting in order to provide time for member consideration. By rule, no member of the public attending open meetings will be allowed to present questions from the floor or speak to any issue under consideration by the Board.

FOR FURTHER INFORMATION CONTACT: Ms. Cynthia Kramer, (845) 938-5078 (fax: 845-938-3214) or via e-mail: Cynthia.kramer@us.army.mil.

Brenda S. Bowen,
Army Federal Register Liaison Officer.

[FR Doc. E8-9810 Filed 5-2-08; 8:45 am]

BILLING CODE 3710-08-P